NUCLEAR REGULATORY COMMISSION

[Docket No. 72-25; NRC-2025-0023]

Department of Energy; Idaho Spent Fuel Facility; Termination of License

AGENCY: Nuclear Regulatory Commission.

ACTION: Notice; issuance.

SUMMARY: The U.S. Nuclear Regulatory Commission (NRC) is terminating Special Nuclear Material (SNM) License No. SNM-2512 for the Idaho Spent Fuel Facility (ISFF). By letter dated November 26, 2024, the U.S. Department of Energy (DOE) requested that the NRC terminate the ISFF license. The ISFF has not been constructed, no physical or principal activities authorized by the license have been conducted, and no nuclear materials have been possessed under the license. Consequently, the ISFF site is approved for unrestricted use.

DATES: The license termination for License No. SNM-2512 was issued on February 14, 2025.

ADDRESSES: Please refer to Docket ID NRC-2025-0023 when contacting the NRC about the availability of information regarding this action. You may obtain publicly available information related to this document using any of the following methods:

• Federal Rulemaking Website: Go to https://www.regulations.gov and search for NRC-2025-0023. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Kristina Banovac, Office of Nuclear Material Safety and Safeguards, U.S. Nuclear Regulatory Commission, Washington, DC 20555-0001, telephone: 301-415-7116, email: Kristina.Banovac@nrc.gov.

I. Introduction

The NRC issued SNM-2512 to Foster Wheeler Environmental Corporation, a contractor to DOE, for the ISFF on November 30, 2004. Issuance of this license constituted authorization for a 20-year term to receive, possess, store, and transfer spent fuel and associated radioactive materials at the ISFF, which was to be located at the Idaho National Laboratory in Butte County, Idaho. On May 30, 2008, DOE applied for transfer of the SNM-2512 license from Foster Wheeler Environmental Corporation to DOE. NRC approved the license transfer of SNM-2512 to DOE by Order dated, July 17, 2009, and issued a conforming license amendment on September 9, 2009.

By letter dated November 26, 2024, DOE requested termination of SNM-2512 for the ISFF. In its letter, DOE stated that the facility, as described in Condition 10 of SNM-2512, has not been constructed and that no physical or principal activities authorized by the license had been conducted at the facility site. In its letter, DOE also stated that the decision has been made that the facility will not be constructed and therefore the license should be terminated. Subsequently, the SNM-2512 license expired on November 30, 2024.

II. License Termination

The termination of NRC licenses issued under part 72 of title 10 of the Code of Federal Regulations (10 CFR), “Licensing Requirements for the Independent Storage of Spent Nuclear Fuel, High-Level Radioactive Waste, and Reactor-Related Greater Than Class C Waste,” is governed by 10 CFR 72.54, “Expiration and termination of licenses and decommissioning of sites and separate buildings or outdoor areas.” The staff finds that DOE's license termination request dated November 26, 2024, demonstrates that the criteria of 10 CFR 72.54 are met. Requirements for license termination in 10 CFR 72.54 include the submission of NRC Form 314, “Certificate of Disposition of Materials,” or equivalent information. The staff finds that DOE met these requirements through the information provided in its November 26, 2024, letter.

Further, as there was no construction on the ISFF site, no physical or principal activities authorized by the license have been conducted, and no nuclear materials have been possessed under the license, there is no need for a site radiation survey to be conducted under 10 CFR 72.54. With no radiological contamination associated with the license, the ISFF site may be released for unrestricted use pursuant to 10 CFR 20.1402.

III. Environmental Considerations

DOE seeks to terminate the ISFF license for which construction never commenced, no physical or principal activities authorized by the license have been conducted, and no nuclear materials have been possessed under the license.

Terminating a 10 CFR part 72 license is a licensing action that would ordinarily require an environmental assessment under 10 CFR 51.21, unless a categorical exclusion in 10 CFR 51.22(c) applies and no special circumstances under 10 CFR 51.22(b) exist. Actions listed in 10 CFR 51.22(c) were previously found by the Commission to be part of a category of actions that “does not individually or cumulatively have a significant effect on the human environment.”

The categorical exclusion identified in 10 CFR 51.22(c)(20) includes:

Decommissioning of sites where licensed operations have been limited to the use of—

(i) Small quantities of short-lived radioactive materials;

(ii) Radioactive materials in sealed sources, provided there is no evidence of leakage of radioactive material from these sealed sources; or

(iii) Radioactive materials in such a manner that a decommissioning plan is not required by 10 CFR 30.36(g)(1), 40.42(g)(1), or 70.38(g)(1), and the NRC has determined that the facility meets the radiological criteria for unrestricted use in 10 CFR 20.1402 without further remediation or analysis.

This categorical exclusion captures decommissioning activities at sites where contamination from radioactive material is determined to be nominal. In the case of the ISFF, no associated radiological contamination exists because construction never commenced, no physical or principal activities authorized by the license have been conducted, and no nuclear materials have been possessed under the license. As a result, a decommissioning plan for this site is not required by 10 CFR 72.54(g), and the site meets the radiological criteria for unrestricted use in 10 CFR 20.1402 without further remediation or analysis. Further, no special circumstances under 10 CFR 51.22(b) apply. The factors listed in 10 CFR 51.22(c)(20) are consistent with the circumstances here because there is no environmental impact associated with terminating the ISFF license, which is even less than the nominal impacts anticipated by the categorical exclusion. Therefore, application of the categorical exclusion to the termination of the ISFF license is warranted. Consequently, in accordance with 10 CFR 51.22(b) and (c)(20), an environmental assessment or an environmental impact statement is not required for the termination of the SNM-2512 license.

IV. Conclusion

As previously discussed in this document, the Commission has determined that the ISFF license termination request meets the categorical exclusion criteria set forth in 10 CFR 51.22(c)(20) and that the unrestricted use criteria pursuant to 10 CFR 20.1402 are met. The NRC staff determined that no associated radiological contamination exists because construction never commenced, no physical or principal activities authorized by the license have been conducted, and no nuclear materials have been possessed under the license. The Commission grants DOE's request to terminate the SNM-2512 license for the ISFF. This license termination was effective upon DOE's receipt of NRC's termination letter, dated February 14, 2025.

V. Availability of Documents

The documents identified in this notice are available to interested persons through ADAMS.

Document description | ADAMS Accession No.
DOE—Request for Termination of Materials License No. SNM-2512 for the Idaho Spent Fuel Facility, dated November 26, 2024 | ML24332A156 (Package).
Issuance of Materials License No. SNM-2512 for the Idaho Spent Fuel Facility, dated November 30, 2004 | ML043360251 (Package).
DOE Application for the Transfer of Materials License No. SNM-2512 for the Idaho Spent Fuel Facility, dated May 30, 2008 | ML081630247.
Order Approving Direct Transfer of Facility Operating License for Idaho Spent Fuel Facility, dated July 17, 2009 | ML091940447 (Package).
Issuance of Conforming Licensing Amendment Reflecting Direct Transfer of SNM-2512 for Idaho Spent Fuel Facility, dated September 9, 2009 | ML092530022 (Package).
Letter to M. Brown, DOE, Termination of Special Nuclear Materials License No. SNM-2512 for the Idaho Spent Fuel Facility, dated February 14, 2025 | ML24366A114.

Dated: February 14, 2025.
For the Nuclear Regulatory Commission.
Cinthya I. Roman-Cuevas,
Deputy Director, Division of Fuel Management, Office of Nuclear Material Safety and Safeguards.

[FR Doc. 2025-02842 Filed 2-19-25; 8:45 am]

BILLING CODE 7590-01-P